NUCLEAR REGULATORY COMMISSION

[NRC-2008-0089]

Final Interim Staff Guidance DI&C-ISG-03: Probabilistic Risk Assessment Information To Support Design Certification and Combined License Applications

AGENCY: Nuclear Regulatory Commission.

ACTION: Interim staff guidance; withdrawal.

SUMMARY: The Nuclear Regulatory Commission (NRC) is withdrawing its Final Interim Staff Guidance (ISG) DI&C-ISG-03, “Interim Staff Guidance on Review of New Reactor Digital Instrumentation and Control Probabilistic Risk Assessment.” This ISG served to supplement the guidance provided to the staff in Section 19.0, “Probabilistic Risk Assessment and Severe Accident Evaluation for New Reactors,” of NUREG-0800, “Standard Review Plan for the Review of Safety Analysis Reports for Nuclear Power Plants: LWR Edition,” concerning the probabilistic risk assessment associated with review of new reactor digital instrumentation and control to support the review of design certification and combined license (COL) applications. The NRC staff issues ISG to facilitate timely implementation of the current staff guidance and to facilitate activities associated with review of applications for DC and COLs by the Office of New Reactors. The NRC staff incorporated the approved DI&C-ISG-03 into Revision 3 to Section 19.0 of NUREG-0800 dated January 2016. With the issuance of Revision 3 to Section 19.0 of NUREG-0800, the staff has determined that DI&C-ISG-03 is no longer necessary and should be withdrawn.

DATES: The date of the withdrawal of Final Interim Staff Guidance DI&C-ISG-03 is May 17, 2019.

ADDRESSES: Please refer to Docket ID NRC-2008-0089 when contacting the NRC about the availability of information regarding this document. You may obtain publicly-available information related to this document using any of the following methods:

• Federal Rulemaking website: Go to http://www.regulations.gov and search for Docket ID NRC-2008-0089. Address questions about Docket IDs in Regulations.gov to Jennifer Borges; telephone: 301-287-9127; email: Jennifer.Bogres@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov.

FOR FURTHER INFORMATION CONTACT: Mr. George Wunder, Office of the New Reactors, U.S. Nuclear Regulatory Commission, Washington, DC, 20555-0001; telephone 301-415-1494 or email at George.Wunder@nrc.gov.

SUPPLEMENTARY INFORMATION: On August 11, 2008, the staff issued its Final Interim Staff Guidance, DI&C-ISG-03, “Interim Staff Guidance on Review of New Reactor Digital Instrumentation and Control Probabilistic Risk Assessment” (ADAMS Accession No. ML080570048). This document is being withdrawn because on January 21, 2016, the staff issued Revision 3 to Section 19.0 of NUREG-0800 (ADAMS Accession No. ML15085A093), incorporating the guidance of DI&C ISG-03 and, therefore, superseding it. Therefore, as of the date of this notice, DI&C-ISG-03 is withdrawn.

Dated at Rockville, Maryland, this 14th day of May 2019.
For the Nuclear Regulatory Commission,
Jennivine K. Rankin,
Acting Chief, Licensing Branch 3, Division of Licensing, Siting, and Environmental Analysis, Office of New Reactors.

[FR Doc. 2019-10314 Filed 5-16-19; 8:45 am]

BILLING CODE 7590-01-P